DEPARTMENT OF LABOR

Employment and Training Administration

Final Finding of No Significant Impact, Atterbury Job Corps Center Proposed Disposal and Reuse of Excess Property, Located at 3129 E Edinburgh Street, Edinburgh, Indiana

AGENCY: Employment and Training Administration, Department of Labor.

ACTION: Final finding of no significant impact.

SUMMARY: The Department of Labor's (DOL) Employment and Training Administration, pursuant to the Council on Environmental Quality Regulations implementing procedural provisions of the National Environmental Policy Act (NEPA), and the Department's own implementing regulations, provides the Department's final determination that the proposed disposal of a 91-acre area of excess property at the Atterbury Job Corps Center, and that this project will not have a significant adverse impact on the environment.

DATES: These findings are applicable as of November 12, 2020.

ADDRESSES: Department of Labor, 200 Constitution Avenue NW, Room N-4460, Attn: Jose Velazquez, Washington, DC 20210.

FOR FURTHER INFORMATION CONTACT: Jose Velazquez; Telephone (202) 693-3099 (this is not a toll free number).

SUPPLEMENTARY INFORMATION: A public notice of availability of the draft environmental assessment (EA), which determined that the dispoal of 91 acres of excess property at the Atterbury Job Corps Center would not have a significant impact on the environment, was published in the Daily Journal in Johnson County, Indiana, on February 3, 2020. The review period extended for 15 days, ending on February 18, 2019. No public comments were received. No changes to the findings of the EA have been made.

Implementation of the proposed action alternative will not have significant impacts on the human environment. The determination is sustained by the analysis in the EA, agency, and Native American tribal consultation, the inclusion and consideration of public review, and the capability of mitigations to reduce or avoid impacts. Any adverse environmental effects that could occur are no more than minor in intensity, duration and context and less-than-significant. As described in the EA, there are no highly uncertain or controversial impacts, unique or unknown risks, significant cumulative effects, or elements of precedence. There are no previous, planned, or implemented actions, which, in combination with the proposed action alternative, would have significant effects on the human environment. Requirements of NEPA have been satisfied, and preparation of an Environmental Impact Statement is not required.

John Pallasch,
Assistant Secretary for Employment and Training, Labor.

[FR Doc. 2020-24974 Filed 11-10-20; 8:45 am]

BILLING CODE 4510-FN-P